DEPARTMENT OF THE INTERIOR

Geological Survey

[GX19GG00995TR00]

Call for Nominations for the Scientific Earthquake Studies Advisory Committee

AGENCY: U.S. Geological Survey, Department of the Interior.

ACTION: Call for nominations.

SUMMARY: The Department of the Interior is seeking nominations to serve on the Scientific Earthquake Studies Advisory Committee (SESAC). The SESAC advises the Director of the U.S. Geological Survey (USGS) on matters relating to the USGS's participation in the National Earthquake Hazards Reduction Program.

DATES: Nominations to participate on the SESAC must be received by August 26, 2019.

ADDRESSES: Send nominations electronically to SESAC_FACA_Resumes@usgs.gov or by mail to Linda Huey, U.S. Geological Survey, U.S. Department of the Interior, 12201 Sunrise Valley Drive, Mail Stop 905, Reston, VA 20192.

FOR FURTHER INFORMATION CONTACT: Dr. Michael Blanpied, U.S. Geological Survey, MS 905, 12201 Sunrise Valley Drive, Reston, Virginia 20192; 703-648-6696; mblanpied@usgs.gov

SUPPLEMENTARY INFORMATION: The SESAC conducts its operations in accordance with the provisions of the Federal Advisory Committee Act. The SESAC provides recommendations and advice to the Director of the USGS (Director), and functions solely as an advisory body. The SESAC reviews the current activities of the USGS Earthquake Hazards Program and discusses future priorities.

The SESAC includes up to 10 members, who are qualified in the seismic sciences and other appropriate fields involved in national earthquake research activities. Selection of individuals for the SESAC shall be based solely on established records of distinguished service, and the Director shall ensure that a reasonable cross-section of views and expertise is represented. In selecting individuals to serve on the SESAC, the Director shall seek and give due consideration to recommendations from the National Academy of Sciences, professional societies, and other appropriate organizations. SESAC members are appointed for staggered terms to ensure continuity. Nominations received through this call may be used to fill future vacancies on the SESAC. Nominations will be reviewed by the USGS and additional information may be requested from nominees. Final selection and appointment of SESAC members will be made by the Director.

The SESAC meets approximately 1-2 times per year. SESAC members will serve without compensation, but travel and per diem costs will be provided by the USGS. The USGS will also provide necessary support services to the SESAC. SESAC meetings are open to the public.

Nominations may come from individuals, employers, associations, professional organizations, or other geospatial organizations. Nominations should include a resume or curriculum vitae providing an adequate description of the nominee's qualifications sufficient for the USGS to make an informed decision regarding meeting the membership requirements of the SESAC and permit the nominated person to be contacted. Nominations may optionally include supporting letters from employers, associations, professional organizations, and/or other organizations.

Additional information about the SESAC and the nomination process is posted on the SESAC webpage at https://earthquake.usgs.gov/aboutus/sesac/.

Authority: 5 U.S.C. Appendix 2.

Trent Richardson,
Deputy Associate Director, Natural Hazards Mission Area.

[FR Doc. 2019-15725 Filed 7-23-19; 8:45 am]

BILLING CODE 4338-11-P